DEPARTMENT OF COMMERCE

International Trade Administration

[A-570-092]

Mattresses From the People's Republic of China: Postponement of Preliminary Determination in the Less-Than-Fair-Value Investigation

AGENCY: Enforcement and Compliance, International Trade Administration, Department of Commerce.

DATES: Applicable April 1, 2019.

FOR FURTHER INFORMATION CONTACT: Lilit Astvatsatrian at (202) 482-6412 or Stephen Bailey at (202) 482-0193, AD/CVD Operations, Office IV, Enforcement and Compliance, International Trade Administration, U.S. Department of Commerce, 1401 Constitution Avenue NW, Washington, DC 20230.

SUPPLEMENTARY INFORMATION:

Background

On October 17, 2018, the Department of Commerce (Commerce) initiated a less-than-fair-value (LTFV) investigation of imports of mattresses from the People's Republic of China.¹ Currently, the preliminary determination is due no later than April 8, 2019.

¹ See Mattresses from the People's Republic of China: Initiation of Less-Than-Fair-Value Investigation, 83 FR 52386 (October 17, 2018) (Initiation Notice).

Commerce exercised its discretion to toll all deadlines affected by the partial federal government closure from December 22, 2018, through the resumption of operations on January 29, 2019.² If the new deadline falls on a non-business day, in accordance with Commerce's practice, the deadline will become the next business day. Accordingly, the revised deadline for the preliminary determination of this investigation became April 8, 2019.

² See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, and determines that the investigation is extraordinarily complicated and that additional time is necessary to make a preliminary determination. Under 19 CFR 351.205(e), the petitioner must submit a request for postponement 25 days or more before the scheduled date of the preliminary determination and must state the reasons for the request. Commerce will grant the request unless it finds compelling reasons to deny the request.

On March 7, 2019, the petitioners ³ in the mattresses LTFV investigation submitted a timely request that Commerce postpone the preliminary determination in the investigation to the maximum extent permitted under the statute.⁴ The petitioners requested the postponement to provide Commerce, and the petitioners, time to review questionnaire responses and identify deficiencies within those responses, and to provide time for Commerce to issue, and receive responses to, supplemental questionnaires prior to the preliminary determination.⁵

³ The petitioner is the Corsicana Mattress Company, Elite Comfort Solutions, Future Foam Inc., FXI, Inc., Innocor, Inc., Kolcraft Enterprises Inc., Leggett & Platt, Incorporated, Serta Simmons Bedding, LLC, and Tempur Sealy International, Inc. (collectively, the petitioners).

⁴ See Letter from the petitioners, “Mattresses from the People's Republic of China: Petitioners' Request to Postpone the Antidumping Investigation Preliminary Determination,” dated March 7, 2019.

⁵ Id.

For the reasons stated above, and because there are no compelling reasons to deny the request, Commerce, in accordance with section 733(c)(1)(A) of the Act, is postponing the deadline for the preliminary determination in the mattresses LTFV investigation by 50 days (i.e., until 190 days after the date on which this investigation was initiated, plus 40 days for tolling). As a result, Commerce will issue its preliminary determination in the mattress LTFV investigation no later than May 28, 2019. In accordance with section 735(a)(1) of the Act and 19 CFR 351.210(b)(1), the deadline for the final determination in this investigation will continue to be 75 days after the date of the preliminary determination, unless postponed at a later date.

This notice is issued and published pursuant to section 733(c)(2) of the Act and 19 CFR 351.205(f)(1).

Dated: March 27, 2019.
Gary Taverman,
Deputy Assistant Secretary for Antidumping and Countervailing Duty Operations, performing the non-exclusive functions and duties of the Assistant Secretary for Enforcement and Compliance.

[FR Doc. 2019-06214 Filed 3-29-19; 8:45 am]

BILLING CODE 3510-DS-P